ENVIRONMENTAL PROTECTION AGENCY

[EPA-HQ-OAR-2013-0119; FRL -10538-01-OMS]

Information Collection Request Submitted to OMB for Review and Approval; Comment Request; Motor Vehicle and Engine Compliance Program Fees (Renewal)

AGENCY: Environmental Protection Agency (EPA).

ACTION: Notice.

SUMMARY: The Environmental Protection Agency has submitted an information collection request (ICR), Motor Vehicle and Engine Compliance Program Fees (EPA ICR Number 2080.08, OMB Control Number 2060-0545) to the Office of Management and Budget (OMB) for review and approval in accordance with the Paperwork Reduction Act. This is proposed extension of the ICR, which is currently approved through December 31, 2022. Public comments were previously requested via the Federal Register on April 8, 2022 during a 60-day comment period. This notice allows for an additional 30 days for public comments. A fuller description of the ICR is given below, including its estimated burden and cost to the public. An agency may not conduct or sponsor and a person is not required to respond to a collection of information unless it displays a currently valid OMB control number.

DATES: Additional comments may be submitted on or before January 26, 2023.

ADDRESSES: Submit your comments to EPA, referencing Docket ID No. EPA-HQ-OAR-2013-0119, online using www.regulations.gov (our preferred method), by email to a-and-r-Docket@epa.gov, or by mail to: EPA Docket Center, Environmental Protection Agency, Mail Code 28221T, 1200 Pennsylvania Ave., NW, Washington, DC 20460. EPA's policy is that all comments received will be included in the public docket without change including any personal information provided, unless the comment includes profanity, threats, information claimed to be Confidential Business Information (CBI), or other information whose disclosure is restricted by statute.

For submissions to OMB: Submit comments and recommendations using https://www.reginfo.gov/public/do/PRAMain. Find this particular information collection by selecting “Currently under 30-day Review—Open for Public Comments” or by using the search function.

FOR FURTHER INFORMATION CONTACT: Lynn Sohacki, Compliance Division, Office of Transportation and Air Quality, Environmental Protection Agency, 2000 Traverwood Dr., Ann Arbor, MI 48105; telephone number: 734-214-4851, fax number: 734-214-4869; email address: sohacki.lynn@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: As required by the Clean Air Act, EPA has regulations establishing emission standards and other requirements for various classes of vehicles, engines, and evaporative emission components. These regulations require a manufacturer to demonstrate compliance prior to EPA granting it a “Certificate of Conformity.” EPA charges fees for administering this certification program. In 2004 and subsequently in 2008 the fees program was expanded to include nonroad categories of vehicles and engines, such as several categories of marine engines, locomotives, non-road recreational vehicles, many nonroad compression-ignition and spark-ignition engines and evaporative emission components. Manufacturers and importers of covered vehicles, engines and components are required to pay the applicable certification fees prior to their certification applications being reviewed by the Agency. Under section 208 of the Clean Air Act (42 U.S.C. 7542(c)) all information, other than trade secret processes or methods, must be publicly available. Information about fee payments is treated as confidential information prior to certification.

Form Numbers: 3520-29.

Respondents/affected entities: Manufacturers or importers of passenger cars, motorcycles, light trucks, heavy-duty truck engines, nonroad vehicles or engines, and evaporative emission components are required to receive a certificate of conformity from EPA prior to selling or introducing these products into commerce in the U.S.

Respondent's obligation to respond: Required to obtain or retain a benefit (40 CFR part 1027).

Estimated number of respondents: 579 (total).

Frequency of response: An average of approximately nine responses per respondent per year.

Total estimated burden: 1022 hours (per year). Burden is defined at 5 CFR 1320.03(b).

Total estimated cost: $77,444 (per year), includes $12,364 annualized capital or operation and maintenance costs.

Changes in the estimates: There is a slight increase of three hours in the total estimated respondent burden compared with the ICR currently approved by OMB. This slight increase is due to the variability in the number of certificates and, therefore, the number of fees paid from year to year. The estimate of the costs associated with the fees program have increased from $67,445 to $77,444 due to wage estimate increases.

Courtney Kerwin,
Director, Regulatory Support Division.

[FR Doc. 2022-28057 Filed 12-23-22; 8:45 am]

BILLING CODE 6560-50-P